INTERNATIONAL TRADE COMMISSION

[Investigation No. 337-TA-536]

In the Matter of Certain Pool Cues With Self-Aligning Joint Assemblies and Components Thereof; Notice of Commission Decision to Review in Part an Initial Determination Finding No Violation of Section 337 of the Tariff Act of 1930; Termination of Investigation

AGENCY: U.S. International Trade Commission.

ACTION: Notice.

SUMMARY: Notice is hereby given that the U.S. International Trade Commission has determined to review in part an initial determination (“ID”) of the presiding administrative law judge (“ALJ”) finding no violation of section 337 of the Tariff Act of 1930, as amended, in the above-captioned investigation. The Commission determined on review to decline to reach the issue of whether one claim term was met by the accused pool cues. The Commission has determined not to review the ALJ's determination that one other limitation of the claims at issue is not met by the accused products. The investigation is therefore terminated with a finding of no violation.

FOR FURTHER INFORMATION CONTACT: Michael K. Haldenstein, Esq., Office of the General Counsel, U.S. International Trade Commission, 500 E Street, SW., Washington, DC 20436, telephone (202) 205-3041. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000.

General information concerning the Commission may also be obtained by accessing its Internet server (http://www.usitc.gov). The public record for this investigation may be viewed on the Commission's electronic docket (EDIS-ON-LINE) at http://edis.usitc.gov. Hearing-impaired persons are advised that information on this matter can be obtained by contacting the Commission's TDD terminal on (202) 205-1810.

SUPPLEMENTARY INFORMATION: The Commission instituted the above-referenced investigation under section 337 of the Tariff Act of 1930 on April 4, 2005, based on a complaint filed by J. Pechauer Custom Cues, Inc. (“Pechauer”) of Green Bay, Wisconsin. 70 FR 7112. The complaint alleged infringement of U.S. Patent No. 6,582,317 (the ‘317 patent), in the importation, sale for importation, and sale within the United States after importation of certain pool cues covered by all 29 claims of the ‘317 patent. The Commission named the following companies as respondents in the investigation: Kaokao Industrial Co. LTD., aka Kaokao (Zhang Zhou) Sports (“Kao Kao”) Equipment Co. Ltd. of Taiwan; CueStix International of Lafayette, Colorado; Sterling Gaming of Matthews, North Carolina; CueSight of Matthews, North Carolina; Imperial International of Hasbrouck Heights, New Jersey; Sigel's Unlimited Cues & Accessories of Winter Garden, Florida; Nick Varner Cues and Cases of Owensboro, Kentucky; J-S Sales Co. Inc. of Elmsford, New York; and GLD Products of Muskego, Wisconsin.

On September 1, 2005, the ALJ issued an ID (Order No. 5) granting Kao Kao's motion for summary determination of noninfringement and finding that Kao Kao's accused pool cues do not satisfy two limitations of the two independent claims of the ‘317 patent. On September 7, 2005, complainant Pechauer filed a petition for review of the ALJ's ID, and on September 19, 2005, the Commission Investigative Attorney and Kao Kao filed oppositions to Pechauer's petition for review. On September 22, 2005, the Commission extended the time for deciding whether to review the ID until October 17, 2005.

Having examined the record in this investigation, including the ID, the petition for review, and the responses thereto, the Commission has determined not to review the portion of the ID concerning the “slightly threaded anterior portion” limitation. The Commission has determined to review, and on review, to decline to reach the issue of whether the accused pool cues meet the “closed posterior end” limitation. Accordingly, the investigation is terminated with a finding of no violation.

This action is taken under the authority of section 337 of the Tariff Act of 1930, as amended (19 U.S.C. 1337), and in sections 210.42 of the Commission's Rules of Practice and Procedure (19 CFR 210.42).

By order of the Commission.
Issued: October 18, 2005.
Marilyn R. Abbott,
Secretary to the Commission.

[FR Doc. 05-21108 Filed 10-20-05; 8:45 am]

BILLING CODE 7020-02-P